FEDERAL COMMUNICATIONS COMMISSION

[CC Docket No. 96-45; DA 00-2327]

Common Carrier Bureau Seeks Comment on Western Wireless's Supplemental Filing Relating to Its Petition for Designation as an Eligible Telecommunications Carrier on the Crow Reservation in Montana

AGENCY: Federal Communications Commission.

ACTION: Notice; solicitation of comments.

SUMMARY: In a Public Notice in this proceeding released on October 13, 2000, the Common Carrier Bureau sought comment on Western Wireless' petition and supplemental filing seeking designation of eligibility to receive federal universal service support for a service area comprised of the Crow Reservation in Montana.

DATES: Comments are due on or before November 24, 2000. Reply comments are due on or before December 11, 2000.

ADDRESSES: See SUPPLEMENTARY INFORMATION section for where and how to file comments.

FOR FURTHER INFORMATION CONTACT: Richard D. Smith (202) 418-7400 TTY: (202) 418-0484.

SUPPLEMENTARY INFORMATION: On August 4, 1999, Western Wireless filed with the Commission a petition under section 214(e)(6) seeking a designation of eligibility to receive federal universal service support for a service area comprised of the Crow Reservation in Montana. Specifically, Western Wireless contends that telecommunications service offered on the Crow Reservation is not subject to the jurisdiction of the state commission. On September 10, 1999, the Common Carrier Bureau released a Public Notice seeking comment on Western Wireless' petition for designation as an eligible telecommunications carrier (ETC). In response, the Montana Commission filed comments asking this Commission to dismiss the petition and allow the Montana Commission to consider the designation request.

In the Twelfth Report and Order, 65 FR 47941, August 4, 2000, this Commission concluded that it would resolve the threshold question of whether Western Wireless is subject to the jurisdiction of the Montana Commission for purposes of determining eligibility for federal support for services provided on the Crow Reservation. To permit Western Wireless a fair opportunity to present its case consistent with the guidance provided in the Twelfth Report and Order, the Commission allowed Western Wireless an opportunity to supplement its claim that the Montana Commission lacks jurisdiction to make the eligibility designations for service provided on the Crow Reservation.

On October 2, 2000, Western Wireless filed a Jurisdictional Supplement in response to the Commission's directive in the Twelfth Report and Order to support its contention that the state commission does not have jurisdiction to designate Western Wireless as an eligible telecommunications carrier on the Crow Reservation. Consistent with the procedures outlined in the Twelfth Report and Order, the Montana Commission and any other interested party shall have 30 days after publication of this Public Notice in the Federal Register to respond to Western Wireless' original petition and supplemental filing. Interested parties will then have 15 days to file reply comments. The Commission will send a copy of this Public Notice, by overnight express mail, to the Montana Commission. The Commission will also publish this Public Notice in the Federal Register. To ensure that all interested parties are aware of the comment dates, the Common Carrier Bureau will issue a Public Notice following Federal Register publication specifying the exact comment and reply comment dates.

Pursuant to §§ 1.415 and 1.419 of the Commission's rules, 47 CFR 1.415, 1.419, interested parties may file comments as follows: comments are due November 24, 2000, and reply comments are due December 11, 2000. Comments may be filed using the Commission's Electronic Comment Filing System (ECFS) or by filing paper copies. See Electronic Filing of Documents in Rulemaking Proceedings, 63 FR 24121, May 1, 1998. Comments filed through the ECFS can be sent as an electronic file via the Internet to <http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit electronic comments by Internet e-mail. To receive filing instructions for e-mail comments, commenters should send an e-mail to ecfs@fcc.gov, and should include the following words in the body of the message, “get form <your e-mail address>.” A sample form and directions will be sent in reply. Parties who choose to file by paper must file an original and four copies of each filing. All filings must be sent to the Commission's Secretary, Magalie Roman Salas, Office of the Secretary, Federal Communications Commission, 445 12th Street, SW., Washington, DC 20554.

Parties also must send three paper copies of their filing to Sheryl Todd, Accounting Policy Division, Common Carrier Bureau, Federal Communications Commission, 445 Twelfth Street S.W., Room 5-B540, Washington, DC 20554. In addition, commenters must send diskette copies to the Commission's copy contractor, International Transcription Service, Inc., 1231 20th Street, N.W., Washington, D.C. 20037.

Pursuant to § 1.1206 of the Commission's rules, 47 CFR 1.1206, this proceeding will be conducted as a permit-but-disclose proceeding in which ex parte communications are permitted subject to disclosure.

Dated: October 18, 2000.
Katherine L. Schroder,
Division Chief, Accounting Policy Division.

[FR Doc. 00-27307 Filed 10-24-00; 8:45 am]

BILLING CODE 6712-01-P